DEPARTMENT OF COMMERCE

National Oceanic and Atmospheric Administration

RIN 0648-XD482

North Pacific Fishery Management Council; Public Meetings

AGENCY: National Marine Fisheries Service (NMFS), National Oceanic and Atmospheric Administration (NOAA), Commerce.

ACTION: Notice of public meetings of the North Pacific Fishery Management Council Electronic Monitoring Workgroup.

SUMMARY: The North Pacific Fishery Management Council (Council) Fixed Gear Electronic Monitoring (EM) workgroup will meet in Anchorage, AK.

DATES: The meetings will be held September 23-24, 2014, from 8:30 a.m. to 5 p.m.

ADDRESSES: The meetings will be held at the North Pacific Fishery Management Council, 605 W 4th Avenue, Suite 205, Anchorage, AK.

Council address: North Pacific Fishery Management Council, 605 W. 4th Ave., Suite 306, Anchorage, AK 99501-2252.

FOR FURTHER INFORMATION CONTACT: Diana Evans, Council staff; telephone: (907) 271-2809.

SUPPLEMENTARY INFORMATION: The workgroup will receive an update on fieldwork and video review, discuss a framework of analysis to support EM implementation, and review the Council's objective for SSC review, the research plan, data protocol, and budgets/funding and timelines.

The Agenda is subject to change, and the latest version will be posted at http://www.npfmc.org/.

Special Accommodations

These meetings are physically accessible to people with disabilities. Requests for sign language interpretation or other auxiliary aids should be directed to Gail Bendixen at (907) 271-2809 at least 7 working days prior to the meeting date.

Dated: September 2, 2014.
Tracey L. Thompson,
Acting Deputy Director, Office of Sustainable Fisheries, National Marine Fisheries Service.

[FR Doc. 2014-21175 Filed 9-4-14; 8:45 am]

BILLING CODE 3510-22-P